AGENCY FOR INTERNATIONAL DEVELOPMENT

48 CFR Parts 722 and 752

RIN 0412-AA95

USAID Acquisition Regulation: Safeguarding Against Exploitation, Sexual Abuse, Child Abuse, and Child Neglect

AGENCY: U.S. Agency for International Development.

ACTION: Proposed rule.

SUMMARY: The U.S. Agency for International Development (USAID) seeks public comment on a proposed rule revising the Agency for International Development Acquisition Regulation (AIDAR) to incorporate new requirements for Protection from Sexual Exploitation and Abuse (PSEA) and update existing child safeguarding requirements. This proposed rule strengthens protections for USAID's program participants, community members, project staff, and other individuals in a position of vulnerability, and aligns and consolidates new PSEA and updated child safeguarding compliance and reporting requirements with existing requirements for Counter Trafficking in Persons.

DATES: Comments must be received no later than April 29, 2024.

ADDRESSES: You may send comments, identified by your name, company name (if any), and the Regulatory Information Number (RIN) 0412-AA95 for this rulemaking, via the following method:

• Federal eRulemaking Portal: https://www.regulations.gov. Follow the instructions for sending comments.

Instructions: All submissions received must include the agency name and RIN for this rulemaking. All comments received will be posted without change to https://www.regulations.gov, including any personal information provided. We recommend that you do not submit information that you consider Confidential Business Information (CBI) or any information that is otherwise protected from disclosure by statute. If your comment cannot be submitted using https://www.regulations.gov, please email the point of contact in the FOR FURTHER INFORMATION CONTACT section of this document for alternate instructions.

FOR FURTHER INFORMATION CONTACT: Nicole Thompson, 202-286-4696, policymailbox@usaid.gov.

SUPPLEMENTARY INFORMATION:

A. Providing Accountability Through Transparency Act of 2023

The Providing Accountability Through Transparency Act of 2023 (5 U.S.C. 553(b)(4)) requires that a notice of proposed rulemaking include “the internet address of a summary of not more than 100 words in length of the proposed rule, in plain language, that shall be posted on the internet website under section 206(d) of the E-Government Act of 2002 (44 U.S.C. 3501 note) (commonly known as regulations.gov).”

In summary, “USAID proposes revisions to agency regulation to incorporate new contract requirements strengthening protections for program participants, community members, project staff, and other individuals connected to USAID-funded programming. The revisions consolidate Protection from Sexual Exploitation and Abuse and Child Safeguarding requirements, aligning with existing Trafficking in Persons requirements. Specifically, for applicable awards, contractors will be required to: establish minimum standards for preventing and responding to covered violations; develop and implement a compliance plan; and report alleged violations and contractor actions taken in response. These requirements will apply to all contracts, excluding personal services contracts with individuals and most commercial contracts.”

The proposal, including the summary provided herein, can be found at https://www.regulations.gov under the docket number for this proposed rule.

B. Request for Comments

USAID requests public comment on all aspects of this proposal, including specific questions highlighted below or outlined elsewhere in this document. USAID will only address substantive comments on the rulemaking. USAID may not consider comments that are insubstantial or outside the scope of the proposed rule. Specific feedback is requested on the following:

• When the Safeguarding Compliance Plan applies, how contractors plan to address compliance with and associated costs of new PSEA and child safeguarding requirements.

• Concerns related to potential overlap/conflict between new PSEA and child safeguarding requirements and contractors' existing policies and practices.

• Considerations related to applicability and the burden related to U.S. small businesses and small foreign entities, particularly in regards to the Compliance Plan threshold.

• Anticipated contractor reporting challenges related to safeguarding violations and suggested mitigation strategies.

C. Background

Exploitation, sexual abuse, child abuse, and child neglect cause intolerable harm and threaten USAID's mission around the world. Implementing appropriate safeguarding measures to prevent and address violations—regardless of the method, manner, or medium in which the behavior occurs or is facilitated-protects USAID program participants (also referred to as beneficiaries in the proposed regulatory language), community members, project staff, and other individuals in a position of vulnerability, while improving development outcomes and allowing for children and youth, in particular, to achieve their full development potential. This includes measures to prevent and address violations that occur in or are facilitated by digital technology (and/or other as yet unknown methods or mediums) as well as the physical world. Given rapid and continual advances in technology, USAID is using intentionally broad and inclusive language in its proposed regulatory text to ensure coverage of any and all alleged behaviors identified in this rulemaking, whether physical in the real world, or a digital harm depicted, produced, generated, or otherwise communicated.

Current Federal and Agency-Specific Protections. This proposed rule builds on and strengthens the protections established in the Trafficking Victims Protection Reauthorization Act of 2013 (implemented at 48 CFR 22.17 and the associated clause at 48 CFR 52.222-50), the Assistance for Orphans and Other Vulnerable Children in Developing Countries Act of 2005 (Pub. L. 109-95), and the Emergency Supplemental Appropriations Act for Defense, the Global War on Terror, and Tsunami Relief of 2005 (Pub. L. 109-13, codified at 22 U.S.C. 2370b). Further, it is aligned with the whole of government Advancing Protection and Care for Children in Adversity strategy, the National Strategy on Gender Equity and Equality, the work of the White House Task Force to Address Online Harassment and Abuse, and the Strategy on Women, Peace and Security (WPS), along with USAID's Protection from Sexual Exploitation and Abuse Policy, the updated USAID Youth in Development Policy, and the USAID Counter-Trafficking in Persons Policy.

The proposed rule also aligns with the existing Trafficking in Persons requirements (48 CFR (FAR) 52.222-50) and strengthens and consolidates the USAID-specific award requirements that establish child safeguarding standards at 48 CFR 752.7037 and standards of conduct related to preventing sexual exploitation and abuse at 48 CFR 752.7013.

Rationale for Change. While the prohibitions currently outlined in 48 CFR (FAR) 52.222-50 cover some exploitative behavior, such as sex and labor trafficking, the current requirements do not prohibit other exploitative actions, sexual abuse, child abuse, and child neglect that can occur during the period of performance of federally-funded contracts performed outside the United States. This includes prohibiting exploitation, sexual abuse, child abuse, and child neglect of any individual or group, whether that is beneficiaries, local community members, or contractor staff. The proposed rule will expand current prohibitions to include these additional categories and expand safeguarding requirements to cover all awards, other than those for personal services with individuals and certain commercial items, unless those contracts involve direct interaction with beneficiaries or routine physical access to USAID space or logical access to USAID's information systems. The proposed rule covers prohibited behaviors regardless of the method, manner, or medium in which the behaviors occur or are facilitated (e.g., whether through digital technology, and/or other as yet unknown methods or mediums, or through physical-world violence, exploitation, and abuse). This aligns with similar existing provisions regarding prohibited behavior and alleged violations such as trafficking in persons which do not specify the methods, manner, or medium by which they may occur or be facilitated by. As discussed above, the proposed rule covers all harms, whether actual, attempted, or threatened, and is written with broad language to intentionally account for methods, manners, and mediums of harm that include real, depicted, produced, generated, or otherwise communicated content.

The requirements in 48 CFR 752.7037 and 752.7013, cover additional forms of child abuse and sexual violence. However, a consolidated AIDAR clause is needed to establish comprehensive safeguards across all applicable USAID contracts, to provide clarity to contractors on safeguarding expectations and requirements, and to mandate the reporting of credible information related to violations to USAID and its Office of Inspector General. These requirements will work to prevent exploitation and abuse, particularly of the most vulnerable populations, and will hold individuals and organizations accountable when violations do occur. It mirrors the existing requirements in 48 CFR 52.222-50 for Trafficking in Persons for further consistency.

Alignment with international protocols. The proposed safeguarding rule not only strengthens existing protections but also aligns with existing international standards and definitions. The Inter-Agency Standing Committee (IASC), established pursuant to UN General Assembly Resolution 46/182, sets forth six core principles relating to sexual exploitation and abuse, which are reflected in standards of conduct applicable across the UN. The IASC principles prohibit SEA, including sexual activity with children under the age of 18, the exchange of money or employment for sexual favors, and sexual relationships between staff and beneficiaries, and require reporting of SEA concerns, along with maintaining an environment that does not tolerate SEA. In addition, Keeping Children Safe, a coalition of organizations operating in the aid sector, establishes international standards around child safeguarding to ensure children receive additional necessary protections—through appropriate policies, procedures, personnel, and accountability—when receiving development and humanitarian assistance or interacting with members of the aid sector or its projects as community members.

D. Proposed Changes to 48 CFR (AIDAR)

New and streamlined requirements. This proposed rule amends AIDAR parts 722 and 752 to include new safeguarding requirements applicable to all solicitations and contracts, excluding personal services contracts with individuals and commercial contracts, unless those contracts involve direct interaction with beneficiaries or routine physical access to USAID space or logical access to USAID's information systems. This proposed rule also amends AIDAR part 752 to delete the Child safeguarding standards clause. The new requirements also consolidate PSEA and child safeguarding compliance and reporting with existing Trafficking in Persons requirements. For consistency, the proposed rule aligns with the requirements established in the Trafficking in Persons rule and uses the same or substantially similar definitions (e.g., agent, employee, exploitation, etc.), where available. These mandatory requirements include measures to safeguard program participants, local communities, contractor staff, and other individuals in vulnerable conditions from harm regardless of the method, manner, or medium in which the harmful behaviors occur or are facilitated (e.g., whether through digital technology, and/or other as yet unknown methods or mediums, or through physical-world violence, exploitation, and abuse), and regardless of the place of performance of the contract by:

(1) Establishing minimum standards for contractors to prevent, detect, address, and respond to exploitation, sexual abuse, child abuse, and child neglect;

(2) Prohibiting exploitation, sexual abuse, child abuse, and child neglect; and

(3) Requiring a survivor-centered and/or best interest of the child approach in situations where a potential violation has occurred.

USAID is adding a new AIDAR section 722.70 titled Safeguarding Against Exploitation, Sexual Abuse, Child Abuse, and Child Neglect to implement these requirements. In furtherance of these requirements, the new AIDAR clause 752.222-7x entitled Safeguarding Against Exploitation, Sexual Abuse, Child Abuse, and Child Neglect requires that contractors:

(1) Have and implement publicly available standards, policies, or procedures that prohibit employees, agents, interns, or any other person provided access or contact with beneficiaries of foreign assistance, from engaging in any exploitation, sexual abuse, child abuse, and child neglect of any person during the period of performance, supporting or advancing these actions, or intentionally ignoring or failing to act upon allegations of these actions;

(2) For awards exceeding $550,000, develop, implement, and maintain a compliance plan (either in conjunction with or separate from the Trafficking in Persons Compliance Plan required under (48 CFR) FAR clause 52.222-50, Combating Trafficking in Persons) that details risk analysis and mitigation measures that will be implemented during the period of performance of the contract to prevent and address exploitation, sexual abuse, child abuse, and child neglect through a compliance plan; and

(3) Report credible information that alleges employees, agents, interns, or any other person provided access or contact with beneficiaries, engaged in any exploitation, sexual abuse, child abuse, and child neglect of any person during the period of performance, supported or advanced these actions, or intentionally ignored or failed to act upon allegations of these actions; and additional information on any actions planned or taken in response to the allegation; and any actions planned or taken to assess, address, or mitigate factors that contributed to the incident.

Applicability. In order to maximize the effectiveness of enhanced safeguarding protections and minimize harm, USAID proposes broad applicability to all solicitations and contracts with exceptions only for personal services contracts with individuals and commercial contracts, except when such contracts involve direct interaction with beneficiaries or routine physical access to USAID space or logical access to USAID's information systems. The decision to exclude personal services contracts with individuals and certain commercial contracts was made to eliminate any additional administrative burden under awards where limited to no opportunity for violations exists.

E. Regulatory Planning and Review

This proposed rule was drafted in accordance with Executive Order (E.O.) 12866, as amended by E.O. 14094, and E.O. 13563. OMB has determined that this rulemaking is not a “significant regulatory action,” as defined in section 3(f) of E.O. 12866, as amended, and is therefore not subject to review by OMB. This rulemaking is not a major rule under 5 U.S.C. 804.

F. Regulatory Flexibility Act

USAID does not expect this proposed rule to have a significant economic impact on a substantial number of small entities within the meaning of the Regulatory Flexibility Act, 5 U.S.C. 601, et seq. USAID has therefore not performed an Initial Regulatory Flexibility Analysis (IRFA).

G. Paperwork Reduction Act

The Paperwork Reduction Act (44 U.S.C. chapter 35) applies. The proposed rule contains information collection requirements. Accordingly, USAID has submitted a request for approval of a new information collection requirement concerning this rulemaking to the Office of Management and Budget.

The outlined information collection is an element of the proposed rule that implements USAID's new requirements for reporting and recordkeeping associated with violations and mitigation measures. The proposed rule will incorporate a new subpart 722.70 Safeguarding Against Exploitation, Sexual Abuse, Child Abuse, and Child Neglect, and the corresponding clause of the same name into the AIDAR. This rulemaking is intended to streamline reporting requirements for contractors, subcontractors, and Agency staff across the Agency's projects and operations.

1. Needs and Uses

The purpose of this collection is to enable USAID to respond to allegations of exploitation, sexual abuse, child abuse, and child neglect. Contractors will be required to report credible information that alleges employees, agents, interns, or any other person provided access or contact with beneficiaries, engaged any exploitation, sexual abuse, child abuse, and child neglect of any person, supported or advanced these actions, or intentionally ignored or failed to act upon allegations of these actions; and additional information on any actions planned or taken in response to the allegation; and any actions planned or taken to assess, address, or mitigate factors that contributed to the incident. Information submitted by contractors as part of this collection will be presumed to be confidential. USAID takes the protection of personally identifiable information (PII) seriously and takes precautions to ensure the confidentiality and security of PII consistent with USAID's Automated Directives System (ADS) chapter 508 and does not request PII in this information collection. Agency staff must only share information on individual notifications on a need-to-know basis and take steps to protect any sensitive information, including redacting sensitive information and limiting access.

Information in the notification may include: award title and number, organization name and subcontractor name, if applicable, location of the project and the incident, the type of allegation, the date of the incident and/or allegation, whether the survivor is a program participant, member of the community, or staff, and whether the perpetrator is a senior leader. It may also identify: any actions taken or next steps to respond to the incident, resources available or provided to the survivor, steps taken to ensure the safety of the survivor(s) or whistleblower(s), the status of the investigation, any established organizational procedures or framework, interim measures or final measures taken or planned to address the alleged perpetrator, and any protective measures or organizational reforms, such as changes to applicable policies and procedures. The notification should not include PII.

For awards exceeding $550,000, the contractor must develop, implement, and maintain a compliance plan, either in conjunction with or separate from the Trafficking in Persons Compliance Plan, that details risk analysis and mitigation measures that will be implemented during the period of performance of the contract to prevent and address exploitation, sexual abuse, child abuse, and child neglect of any person. The contractor's compliance plan must be appropriate to the size and complexity of the award and to the nature and scope of the activities, including the particular risks presented by the operating context. The contractor must provide a copy of the compliance plan to the Contracting Officer upon request.

2. Request for Comments Regarding Paperwork Burden

Submit comments, including suggestions for reducing this burden, not later than April 29, 2024 using the method specified in the ADDRESSES section above.

Public comments are particularly invited on: Whether this collection of information is necessary to accomplish the purpose of this rulemaking; whether our estimate of the public burden of this collection of information is accurate and based on valid assumptions and methodology; ways to enhance the quality, utility, and clarity of the information to be collected; and ways in which we can minimize the burden of the collection of information on those who are to respond.

Requesters may obtain a copy of the supporting statement by contacting policymailbox@usaid.gov. Please cite RIN 0412-AA95 in all correspondence.

3. Annual Reporting Burden

Notifications

Respondents: 45.

Total Annual Responses: 90.

Total Burden Hours: 360.

Compliance Plan

Respondents: 20.

Recordkeepers: 166.

Total Annual Responses/Records: 186.

Total Burden Hours: 4,004 hours.

List of Subjects in 48 CFR Parts 722 and 752

Government procurement.

For the reasons discussed in the preamble, USAID proposes to amend 48 CFR chapter 7 as set forth below:

1. The authority citation for 48 CFR parts 722 and 752 continues to read as follows:

Authority: Sec. 621, Pub. L. 87-195, 75 Stat. 445, (22 U.S.C. 2381) as amended; E.O. 12163, Sept. 29, 1979, 44 FR 56673; and 3 CFR, 1979 Comp., p. 435.

PART 722—APPLICATION OF LABOR LAWS TO GOVERNMENT ACQUISITION

2. Add subpart 722.70 to read as follows:

Subpart 722.70—Safeguarding Against Exploitation, Sexual Abuse, Child Abuse, and Child Neglect

Sec.
722.7001 Scope.
722.7002 Applicability.
722.7003 Definitions.
722.7004 Policy.
722.7005 Contract clause.
Subchapter D Socioeconomic Programs

722.70 Safeguarding Against Exploitation, Sexual Abuse, Child Abuse, And Child Neglect

722.7001 Scope.

This subpart prescribes policies and procedures that prohibit exploitation, sexual abuse, child abuse, and child neglect, occurring during the period of performance of USAID contracts.

722.7002 Applicability.

This subpart applies to contracts, except as specified in section 722.7005.

722.7003 Definitions.

As used in this subpart—

Definitions for the purposes of this clause.

Agent means any individual, including a director, an officer, an employee, or an independent contractor, authorized to act on behalf of an organization.

Child means a person younger than 18 years of age.

Child abuse means emotional, physical, sexual, or any other ill-treatment carried out against a child by an adult.

Child neglect means a failure to provide for a child's basic needs in the absence of the child's parent or guardian when the care of the child is associated with a contract requirement.

Emotional child abuse or ill-treatment means injury to the psychological capacity or emotional stability of the child caused by acts, threats of acts, or coercive tactics.

Employee means an individual who is engaged in the performance of this contract as a direct employee, consultant, or volunteer of the contractor or any subcontractor.

Exploitation constitutes any actual or attempted abuse of a position of vulnerability, differential power, or trust, including for the purposes of profiting monetarily, socially, or politically. When carried out for a sexual purpose this constitutes sexual exploitation.

Physical child abuse means acts or failures to act resulting in injury (not necessarily visible), unnecessary or unjustified pain or suffering without causing injury, harm, or risk of harm to a child's health or welfare, or death.

Sexual abuse constitutes any actual or threatened physical intrusion of a sexual nature towards another person whether by force or under unequal or coercive conditions. When carried out against a child by an adult, such conduct is considered sexual abuse even in the absence of force or unequal or coercive conditions.

722.7004 Policy.

(a) USAID has adopted a policy prohibiting exploitation, sexual abuse, child abuse, and child neglect, and takes a survivor-centered approach and, when a child is involved, conducts a best interest of the child determination to address such misconduct.

(b) Contractor must establish and implement a set of publicly available standards, policies, or procedures to prevent, detect, address, and respond to allegations of exploitation, sexual abuse, child abuse, and child neglect of any person during the contract performance by its employees, agents, visitors, interns, volunteers, or any other person provided access or contact with beneficiaries of foreign assistance by the contractor.

722.7005 Contract clause.

(a) The contracting officer must insert the clause at 752.222-7x, Safeguarding Against Exploitation, Sexual Abuse, Child Abuse, and Child Neglect, in solicitations and contracts except for:

(1) Contracts for personal services with individuals; or

(2) Contracts for the acquisition of commercial products or commercial services as defined in FAR 2.101, unless those contracts are anticipated to:

(i) Provide supplies or services directly to the beneficiaries of foreign assistance (e.g., technical assistance and training) in foreign countries, or

(ii) Require routine physical access to USAID space or logical access to USAID's information systems.

(b) [Reserved]

Subchapter H—Clauses and Forms

PART 752—SOLICITATION PROVISIONS AND CONTRACT CLAUSES

3. Add section 752.222-7x to read as follows:

752.222-7x Safeguarding against exploitation, sexual abuse, child abuse, and child neglect

As prescribed in (48 CFR) AIDAR 722.7005, insert the following clause:

SAFEGUARDING AGAINST EXPLOITATION, SEXUAL ABUSE, CHILD ABUSE, AND CHILD NEGLECT. [DATE]

(a) Definitions. For the purposes of this clause.

Agent means any individual, including a director, an officer, an employee, or an independent contractor, authorized to act on behalf of an organization.

Child means a person younger than 18 years of age.

Child abuse means emotional, physical, sexual, or any other ill-treatment carried out against a child by an adult.

Child neglect means a failure to provide for a child's basic needs in the absence of the child's parent or guardian when the care of the child is associated with a contract requirement.

Emotional child abuse or ill-treatment means injury to the psychological capacity or emotional stability of the child caused by acts, threats of acts, or coercive tactics.

Employee means an individual who is engaged in the performance of this contract as a direct employee, consultant, or volunteer of the contractor or any subcontractor.

Exploitation constitutes any actual or attempted abuse of a position of vulnerability, differential power, or trust, including for the purposes of profiting monetarily, socially, or politically. When carried out for a sexual purpose this constitutes sexual exploitation.

Physical child abuse means acts or failures to act resulting in injury (not necessarily visible), unnecessary or unjustified pain or suffering without causing injury, harm, or risk of harm to a child's health or welfare, or death.

Sexual abuse constitutes any actual or threatened physical intrusion of a sexual nature towards another person whether by force or under unequal or coercive conditions. When carried out against a child by an adult, such conduct is considered sexual abuse even in the absence of force or unequal or coercive conditions.

(b) Requirements. During contract performance, the Contractor must have and implement a set of publicly available standards, policies, or procedures to prevent, detect, address, and respond to allegations of exploitation, sexual abuse, child abuse, and child neglect regardless of the method, manner, or medium in which the behavior occurs or is facilitated, including through digital technology (and/or other as yet unknown methods or mediums). The Contractor's standards, policies, or procedures must:

(1) Prohibit employees, agents, interns, or any other person provided access or contact with beneficiaries of foreign assistance, from engaging in any exploitation, sexual abuse, child abuse, and child neglect of any person during the period of performance, supporting or advancing these actions, or intentionally ignoring or failing to act upon allegations of these actions;

(2) Be consistent with the Inter-Agency Standing Committee's Six Core Principles Relating to Sexual Exploitation and Abuse, as amended, available at https://psea.interagencystandingcommittee.org/update/iasc-six-core-principles and the Keeping Children Safe Standards, available at https://www.keepingchildrensafe.global/accountability/;

(3) Require reporting of suspicions or concerns related to violations of the prohibitions in paragraph (b)(1) of this clause to the Contractor;

(4) Require a “survivor-centered approach” for responding to alleged violations of the prohibitions. Such an approach must ensure the survivor's dignity, experiences, considerations, needs, and resiliencies are placed at the center of the process;

(5) When a child is involved, require a “best interest of the child determination” for responding to alleged violations of the prohibitions. This determination considers the best possible outcome for a vulnerable child who has been exposed to violence, abuse, exploitation or neglect;

(6) Include remedies for violations;

(7) Describe how the Contractor will monitor subcontractors, employees, agents, interns, or any other person provided access or contact with beneficiaries of foreign assistance;

(8) Detail the actions that may be taken against subcontractors, employees, agents, interns, or any other person provided access or contact under the award who commit exploitation, sexual abuse, child abuse, and child neglect of any person or who fail to take reasonable steps to prevent it; and;

(9) Provide transparency on hiring, screening, and employment practices, including on rehiring or transfer and referencing for subsequent employers.

(c) Compliance plan. For awards exceeding $550,000 that are for supplies acquired or services performed outside the United States, the Contractor must develop, implement, and maintain a compliance plan, either in conjunction with or separate from the Trafficking in Persons Compliance Plan required under (48 CFR) FAR clause 52.222-50, Combating Trafficking in Persons, that details risk analysis and mitigation measures that will be implemented during the period of performance of the contract to prevent and address exploitation, sexual abuse, child abuse, and child neglect of any person, consistent with the requirements in paragraph (b) of this clause.

(1) The Contractor's compliance plan must be appropriate to the size and complexity of the contract and to the nature and scope of the activities, including the particular risks presented by the operating context. The plan must include, at a minimum, the following:

(i) Reasonable measures to reduce the risk of exploitation, sexual abuse, child abuse, and child neglect. Where implementation of projects under this contract may involve children, this includes limiting unsupervised interactions with children and complying with applicable laws, regulations, or customs regarding harmful image-generating activities of children;

(ii) An awareness program to inform employees, agents, interns, or any other person provided access or contact with beneficiaries of foreign assistance about the requirements of this clause, including the activities prohibited, the action that will be taken in response to violations, and the mechanism(s) for reporting allegations;

(iii) A description of how beneficiaries of foreign assistance and local community members:

(A) Are made aware of the prohibited activities,

(B) May report allegations, and

(C) How paragraphs (c)(1)(iii)(A) and (B) of this clause are carried out in an manner which is inclusive, culturally appropriate, and sensitive to the context;

(iv) Safe, accessible, and publicly available reporting mechanism(s) that may be integrated with any existing or similar such mechanisms, for anyone to confidentially report exploitation, sexual abuse, child abuse, and child neglect, with appropriate safeguards to protect whistle-blowers and survivors, including express protection against retaliation for reporting, and documented procedures for protecting personally identifiable information (PII) from unauthorized access and disclosure; and

(v) Appropriate measures to protect survivors of or witnesses to activities prohibited in paragraph (b)(1) of this clause and not prevent or hinder cooperating fully with Government authorities.

(2) The Contractor must provide a copy of the compliance plan to the Contracting Officer upon request.

(d) Notification. (1) The Contractor must immediately inform, in writing, the Bureau for Management, Office of Management Policy, Budget, and Performance, Responsibility, Safeguarding and Compliance Division (M/MPBP/RSC) at disclosures@usaid.gov, with a copy to the Contracting Officer, and USAID Office of Inspector General (OIG) whenever the Contractor receives credible information from any source that alleges the contractor, subcontractor, employee, agent, intern, or any other person provided access or contact with beneficiaries of foreign assistance has engaged in activities prohibited in paragraph (b)(1) of this clause; and

(2) As soon as practicable, the Contractor must provide in writing, as specified in paragraph (d)(1) of this clause:

(i) Additional information on any actions planned or taken in response to the allegation; and

(ii) Any actions planned or taken to assess, address, or mitigate factors that contributed to the incident.

(3) The Contracting Officer authorizes M/MPBP/RSC to correspond with the Contractor for further information relating to the notification.

(4) In providing any notifications under this subsection, the Contractor should not share PII, unless specifically requested by the Agency or USAID OIG.

(e) Remedies. In addition to other remedies available to the Government, the Contractor's failure to comply with the requirements of paragraph (b), (c) or (d) of this clause may also result in the Agency initiating suspension or debarment proceedings.

(f) Subcontracts. (1) The Contractor must insert the terms of this clause, including paragraph (f) of this clause, in all subcontracts, except subcontracts for commercial products or commercial services as defined at FAR 2.101, Definitions, unless the subcontracts are to provide supplies or services directly to the beneficiaries of foreign assistance (e.g., technical assistance and training) in foreign countries;

(2) The clause must be inserted without alteration except to require subcontractors to notify the prime contractor or next higher tier subcontractor. The Contractor must forward such notifications as required in paragraph (d) of this clause.

(End of clause)

§ 752.7037 [REMOVED AND RESERVED]

4. Remove and reserve section 752.7037

Jami J. Rodgers,
Chief Acquisition Officer.

[FR Doc. 2024-03848 Filed 2-27-24; 8:45 am]

BILLING CODE 6116-01-P